FEDERAL COMMUNICATIONS COMMISSION

Notice of Public Information Collection Being Reviewed by the Federal Communications Commission, Comments Requested

February 4, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a valid OMB control number.

DATES: Persons wishing to comments on this information collection should submit comments on or before April 12, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1134.

Title: Schools and Libraries Universal Service Support Program (“E-Rate”) Broadband Survey.

Form No.: N/A.

Type of Review: Extension of a currently approved collection.

Respondents: Not-for-profit institutions and state, local or tribal government.

Number of Respondents: 25,000 respondents; 25,000 responses.

Estimated Time Per Response: .25 hours.

Frequency of Response: One-time and on occasion reporting requirements.

Obligation to Respond: Voluntary. Statutory authority for this collection of information is contained in 47 U.S.C. sections 151-154, 201-205, 218-220, 254, 303(r), and 403.

Total Annual Burden: 12,500 hours.

Privacy Act Impact Assessment: N/A.

Nature and Extent of Confidentiality: Although it is unlikely that the survey will solicit any confidential information, pursuant to 47 CFR 0.459 of the Commission's rules, a respondent may request that information submitted to the Commission not be put in the public record. The respondent must state the reasons, and the facts on which those reasons are based, for withholding the information from the public record. The appropriate Bureau or Office Chief of the Commission may grant a confidentiality request that presents, by a preponderance of the evidence, a case for non-disclosure consistent with the Freedom of Information Act (FOIA), 5 U.S.C. section 552. If a confidentiality request is denied, the respondent has five days to appeal the decision before the Commission. If the appeal before the Commission is denied, the respondent has five days to seek a judicial stay.

Need and Uses: The Commission will submit this information collection as an extension to the OMB after this 60 day comment period in order to obtain the full three year clearance from them. The Commission sought and received emergency OMB approval in January 2010 for this information collection. The Commission has not changed any of the reporting requirements. There is no change in the Commission's burden estimates.

The American Recovery and Reinvestment Act of 2009 authorized the FCC to create the national Broadband Plan that shall seek to ensure that all people of the United States have access to broadband capability and shall establish benchmarks for meeting that goal. Consistent with this effort, the Commission seeks to conduct a survey of all applicants under the Schools and Libraries Universal Service Program, also known as the E-Rate Program, to determine the current state of broadband usage and access within schools and libraries in the United States in order to determine how to best address their educational and technological needs as part of the National Broadband Plan. The National Broadband Plan is now due to congress by March 17, 2010.

Federal Communications Commission.
Marlene H. Dortch,
Secretary,
Office of the Secretary,
Office of Managing Director.

[FR Doc. 2010-2963 Filed 2-9-10; 8:45 am]

BILLING CODE 6712-01-S